DEPARTMENT OF TRANSPORTATION

National Highway Traffic Safety Administration

[Docket No. NHTSA-2000-7524]

Notice of Receipt of Petition for Decision That Nonconforming 1978-1987 Honda CMX250C Motorcycles Are Eligible for Importation

AGENCY: National Highway Traffic Safety Administration, DOT.

ACTION: Notice of receipt of petition for decision that nonconforming 1978-1987 Honda CMX250C motorcycles are eligible for importation.

SUMMARY: This document announces receipt by the National Highway Traffic Safety Administration (NHTSA) of a petition for a decision that 1978-1987 Honda CMX250C motorcycles that were not originally manufactured to comply with all applicable Federal motor vehicle safety standards are eligible for importation into the United States because (1) they are substantially similar to vehicles that were originally manufactured for importation into and sale in the United States and that were certified by their manufacturer as complying with the safety standards, and (2) they are capable of being readily altered to conform to the standards.

DATES: The closing date for comments on the petition is July 24, 2000.

ADDRESSES: Comments should refer to the docket number and notice number, and be submitted to: Docket Management, Room PL-401, 400 Seventh St., SW, Washington, DC 20590. [Docket hours are from 9 am to 5 pm]

FOR FURTHER INFORMATION CONTACT: George Entwistle, Office of Vehicle Safety Compliance, NHTSA (202-366-5306).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

G&K Automotive Conversion, Inc. of Santa Ana, California (“G&K”) (Registered Importer 90-007) has petitioned NHTSA to decide whether non-U.S. certified 1978-1987 Honda CMX250C motorcycles are eligible for importation into the United States. The vehicles which G&K believes are substantially similar are 1978-1987 Honda CMX250C motorcycles that were manufactured for importation into, and sale in, the United States and certified by their manufacturer, Honda Motor Corporation, as conforming to all applicable Federal motor vehicle safety standards.

The petitioner claims that it carefully compared non-U.S. certified 1978-1987 Honda CMX250C motorcycles to their U.S. certified counterparts, and found the vehicles to be substantially similar with respect to compliance with most Federal motor vehicle safety standards.

G&K submitted information with its petition intended to demonstrate that non-U.S. certified 1978-1987 Honda CMX250C motorcycles, as originally manufactured, conform to many Federal motor vehicle safety standards in the same manner as their U.S. certified counterparts, or are capable of being readily altered to conform to those standards.

Specifically, the petitioner claims that non-U.S. certified 1978-1987 Honda CMX250C motorcycles are identical to their U.S. certified counterparts with respect to compliance with Standard Nos. 106 Brake Hoses, 111 Rearview Mirrors, 116 Brake Fluid, 119 New Pneumatic Tires for Vehicles other than Passenger Cars, and 122 Motorcycle Brake Systems.

Petitioner additionally contends that the vehicles are capable of being readily altered to meet the following standards, in the manner indicated:

Standard No. 108 Lamps, Reflective Devices and Associated Equipment: inspection of all vehicles and replacement of all lamps, reflective devices, and associated equipment with U.S.-model components on vehicles that are not already so equipped.

Standard No. 120 Tire Selection and Rims for Vehicles other than Passenger Cars: (a) inspection of all vehicles for required U.S. rim markings and replacement of rims or addition of markings on vehicles on which they are lacking; (b) installation of a tire information label with the recommended tire size, rim size, and cold inflation pressure.

Standard No. 123 Motorcycle Controls and Displays: recalibration of the speedometer/odometer to measure distance in miles and speed in miles per hour or replacement of the speedometer/odometer with a U.S. model component that is so calibrated.

Comments should refer to the docket number and be submitted to: Docket Management, Room PL-401, 400 Seventh Street, S.W., Washington, DC 20590. It is requested but not required that 10 copies be submitted.

Authority: 49 U.S.C. 30141(a)(1)(A) and (b)(1); 49 CFR 593.8; delegations of authority at 49 CFR 1.50 and 501.8.

Issued on: June 19, 2000.
Marilynne Jacobs,
Director, Office of Vehicle Safety Compliance.

[FR Doc. 00-15928 Filed 6-22-00; 8:45 am]

BILLING CODE 4910-59-P